DEPARTMENT OF THE INTERIOR

National Park Service

[NPS-WASO-NAGPRA-21327; PPWOCRADN0-PCU00RP14.R50000]

Notice of Inventory Completion: Stanford University Heritage Services, Palo Alto, CA

AGENCY: National Park Service, Interior.

ACTION: Notice.

SUMMARY: Stanford University Heritage Services has completed an inventory of the human remains of a Native American individual in consultation with the appropriate Indian tribes or Native Hawaiian organizations, and has identified a lineal descendant of this Native American indvidual. Lineal descendants or representatives of any Indian tribe or Native Hawaiian organization not identified in this notice that wish to request transfer of control of these human remains should submit a written request to Stanford University Heritage Services. If no additional requestors come forward, transfer of control of the human remains to the lineal descendant stated in this notice may proceed.

DATES: Lineal descendants or representatives of any Indian tribe or Native Hawaiian organization not identified in this notice that wish to request transfer of control of these human remains should submit a written request with information in support of the request to Stanford University Heritage Services at the address in this notice by August 4, 2016.

ADDRESSES: Dr. Laura Jones, Stanford University Heritage Services, 3160 Porter Drive, Suite 200, Palo Alto, CA 94304, telephone (650) 723-9664, email ljones@stanford.edu.

SUPPLEMENTARY INFORMATION: Notice is here given in accordance with the Native American Graves Protection and Repatriation Act (NAGPRA), 25 U.S.C. 3003, of the completion of an inventory of human remains under the control of the Stanford University Planning Office, Palo Alto, CA. The human remains were removed from Longville, Humbug Valley, in Plumas County, CA.

This notice is published as part of the National Park Service's administrative responsibilities under NAGPRA, 25 U.S.C. 3003(d)(3). The determinations in this notice are the sole responsibility of the museum, institution, or Federal agency that has control of the Native American human remains. The National Park Service is not responsible for the determinations in this notice.

Consultation

A detailed assessment of the human remains was made by Stanford University Heritage Services professional staff in consultation with representatives of the Greenville Rancheria (previously listed as the Greenville Rancheria of Maidu Indians of California); the Susanville Indian Rancheria, California; the Maidu Summit Consortium (a non-federally recognized Indian group); and with Ms. Beverly Ogle, an individual.

History and Description of the Remains

In October 1895, human remains representing, at minimum, one individual were removed from a historic cemetery in Longville, Plumas County, CA. Excavations were carried out by Stanford University alumna, Mabel Louise Miller in 1895. She is known to have excavated a Native American cemetery abandoned around 1853 and located at a rancheria near Longville, in Plumas County. Miller gave the human remains to the Leland Stanford Junior Museum in October 1916 and subsequently, the museum transferred them to the Stanford University Department of Anthropology. Currently, the human remains are housed in the Stanford University Archaeology Collections. The cemetery was located with the assistance of Ms. Beverly Ogle and was used exclusively by Ms. Ogle's family. It lay adjacent to the home of Ms. Ogle's great-grandfather, Fred Thomas, in the former town site of Longville. Ms. Ogle's family used this small cemetery in the middle to late 1800s.

Determinations Made by the Stanford University Heritage Services Office

Officials of the Stanford University Heritage Services office have determined that:

• Pursuant to 25 U.S.C. 3001(9), the human remains described in this notice represent the physical remains of one individual of Native American ancestry.

• Pursuant to 43 CFR 10.10(b)(1) and 43 CFR 10.14(b), Beverly Ogle is a lineal descendant of the human remains removed from the specific burial site.

Additional Requestors and Disposition

Lineal descendants or representatives of any Indian tribe or Native Hawaiian organization not identified in this notice that wish to request transfer of control of these human remains should submit a written request with information in support of the request to Dr. Laura Jones, Stanford University Heritage Services, 3160 Porter Drive, Suite 200, Palo Alto, CA 94304, telephone (650) 723-9664, email ljones@stanford.edu, by August 4, 2016. After that date, if no additional requestors have come forward, transfer of control of the human remains to Beverly Ogle may proceed.

The Stanford University Heritage Services office is responsible for notifying the representatives of Greenville Rancheria (previously listed as the Greenville Rancheria of Maidu Indians of California); the Susanville Indian Rancheria, California; the Maidu Summit Consortium (a non-federally recognized Indian group); and Ms. Beverly Ogle that this notice has published.

Dated: June 16, 2016.
Melanie O'Brien,
Manager, National NAGPRA Program.

[FR Doc. 2016-15839 Filed 7-1-16; 8:45 am]

BILLING CODE 4312-50-P